DEPARTMENT OF THE INTERIOR

National Park Service

Notice of Availability of the Draft General Management Plan and Draft Environmental Impact Statement for the Fallen Timbers Battlefield and Fort Miamis National Historic Site, Ohio

AGENCY: National Park Service, U.S. Department of the Interior.

SUMMARY: Pursuant to section 102(2)(C) of the National Environmental Policy Act of 1969, the National Park Service (NPS) announces the availability of the Draft General Management Plan and Environmental Impact Statement (GMP/EIS) for the Fallen Timbers Battlefield and Fort Miamis National Historic Site (the park).

DATES: The GMP/EIS will remain available for public review for 60 days following the publishing of the notice of availability in the Federal Register by the Environmental Protection Agency. Public meetings will be announced in the local media.

ADDRESSES: Copies of the GMP/EIS are available by request by writing to the Fallen Timbers Battlefield and Fort Miamis National Historic Site, c/o Director of Planning, Metropolitan Park District of the Toledo Area, 5100 West Central Avenue, Toledo, Ohio 43615-2100, by telephoning (419) 535-3050 or by e-mail james.speck@metroparkstoledo.com. The document is also available to be picked-up in person at Metropolitan Park District offices, 5100 West Central Avenue, Toledo, Ohio. The document can be found on the Internet in the NPS Planning Web site at: http://planning.nps.gov/plans.cfm.

FOR FURTHER INFORMATION CONTACT: Mr. James Speck, Director of Planning, Metropolitan Park District of the Toledo Area, 5100 West Central Avenue, Toledo, Ohio, telephone 419-535-3050.

SUPPLEMENTARY INFORMATION: The Fallen Timbers Battlefield and Fort Miamis National Historic Site is an affiliated area of the national park system, managed by the Metropolitan Park District of the Toledo Area. The park consists of three units, the Fallen Timbers Battlefield, the Fallen Timbers State Monument, and Fort Miamis. The park commemorates an important period in the development of the United States and the opening of the northwest frontier. It represents the culminating event that demonstrated the tenacity of the American people in their quest for western expansion and the struggle for dominance in the Old Northwest Territory.

The purpose of the general management plan is to set forth the basic management philosophy for the park and to provide strategies for addressing issues and achieving identified management objectives. The GMP/EIS describes and analyzes the environmental impacts of the proposed action and two other action alternatives for the future management direction of the park. A no action alternative is also evaluated.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials or organizations or businesses, available for public inspection in their entirety.

Dated: February 23, 2004.
Ernest Quintana,
Regional Director, Midwest Region.

[FR Doc. 04-7133 Filed 3-30-04; 8:45 am]

BILLING CODE 4310-DE-P